DEPARTMENT OF HEALTH AND HUMAN SERVICES

Administration for Children and Families

Privacy Act of 1974; Matching Program

AGENCY: Office of Child Support Enforcement, Administration for Children and Families, Department of Health and Human Services.

ACTION: Notice of a re-established matching program.

SUMMARY: In accordance with the Privacy Act of 1974, as amended, the Department of Health and Human Services (HHS), Administration for Children and Families (ACF), Office of Child Support Enforcement (OCSE) is providing notice of a re-established matching program between HHS/ACF/OCSE and state agencies administering the Temporary Assistance for Needy Families (TANF) program. The matching program compares state TANF agency records with new hire, quarterly wage, and unemployment insurance information maintained in the National Directory of New Hires (NDNH). The outcomes of the comparisons help state agencies to establish and verify eligibility for applicants and recipients of TANF benefits, reduce TANF benefit errors, and maintain program integrity.

DATES: The deadline for comments on this notice is December 15, 2022. The re-established matching program will commence no sooner than 30 days after publication of this notice, provided no comments are received that warrant a change to this notice. The matching program will be conducted for an initial term of 18 months (from approximately January 19, 2023, through July 18, 2024) and, within 3 months of expiration, may be renewed for one additional year if the parties make no change to the matching program and certify that the program has been conducted in compliance with the agreement.

ADDRESSES: Interested parties may submit written comments on this notice to Venkata Kondapolu, Director, Division of Federal Systems, Office of Child Support Enforcement, Administration for Children and Families, by email at venkata.kondapolu@acf.hhs.gov or by mail at Mary E. Switzer Building, 330 C St. SW, 5th Floor, Washington, DC 20201. Comments received will be available for public inspection at this address from 9 a.m. to 5 p.m. ET, Monday through Friday.

FOR FURTHER INFORMATION CONTACT: General questions about the matching program may be submitted to Venkata Kondapolu, Director, Division of Federal Systems, Office of Child Support Enforcement, Administration for Children and Families, by email at venkata.kondapolu@acf.hhs.gov, by mail at Mary E. Switzer Building, 330 C St. SW, 5th Floor, Washington, DC 20201, or by telephone at 202-260-4712.

SUPPLEMENTARY INFORMATION: The Privacy Act of 1974, as amended (5 U.S.C. 552a), provides certain protections for individuals applying for and receiving federal benefits. The law governs the use of computer matching by federal agencies when records in a system of records contains information about individuals that are retrieved by name or other personal identifier or are matched with records of other federal, state, or local government records. The Privacy Act requires agencies involved in a matching program to:

1. Obtain approval of a Computer Matching Agreement, prepared in accordance with the Privacy Act, by the Data Integrity Board of any federal agency participating in a matching program.

2. Enter into a written Computer Matching Agreement.

3. Provide a report of the matching program to Congress and the Office of Management and Budget (OMB) and make it available to the public, as required by 5 U.S.C. 552a(o), (u)(3)(A), and (u)(4).

4. Publish a notice of the matching program in the Federal Register as required by 5 U.S.C. 552a(e)(12) after OMB and Congress complete their review of the report, as provided by OMB Circular A-108.

5. Notify the individuals whose information will be used in the matching program that the information they provide is subject to verification through matching, as required by 5 U.S.C. 552a(o)(1)(D).

6. Verify match findings before suspending, terminating, reducing, or making a final denial of an individual's benefits or payments, or taking other adverse action against the individual, as required by 5 U.S.C. 552a(p).

This matching program complies with these requirements.

Tanguler Gray,
Commissioner, OCSE.

Participating Agencies

The agencies participating in the matching program are OCSE (source agency) and state agencies administering the Temporary Assistance for Needy Families (TANF) program (non-federal agencies).

Authority for Conducting the Matching Program

The authority for conducting the matching program is contained in section 453(j)(3) of the Social Security Act (42 U.S.C. 653(j)(3)).

Purpose(s)

The purpose of the matching program is to provide each participating state agency administering TANF with new hire, quarterly wage, and unemployment insurance information from OCSE's NDNH system of records to assist them in establishing or verifying TANF applicants' and recipients' eligibility for assistance, reducing payment errors, and maintaining program integrity, including determining whether duplicate participation exists, or if the applicant or recipient resides in another state. The state TANF agencies may also use the NDNH information to update the recipients' reported participation in work activities and recipients' and their employers' contact information maintained by the state TANF agencies.

Categories of Individuals

The categories of individuals involved in the matching program are adult members of households who have applied for or receive TANF benefits.

Categories of Records

The categories of records involved in the matching program that may include personal identifiers are new hire, quarterly wage, and unemployment insurance information. The specific data elements that will be provided to OCSE in a state agency input file are:

□ Submitting state code (two-digit Federal Information Processing Standard code)

□ Date stamp (input file transmission date)

□ TANF caseload month and year of adult TANF applicants and recipients

□ Adult TANF applicant/recipient's Social Security number

□ Adult TANF applicant/recipient's first, middle (optional), and last name

□ Name/Social Security number verification request

Optional

Passback data (state agency information used to identify individuals within the input file to be returned on the output file)

Same state data indicator (indicates whether the state agency requests NDNH new hire, quarterly wage, or unemployment insurance even if the information was provided by that same state)

OCSE will compare the Social Security numbers in the state agency input file to the Social Security numbers in the NDNH and will provide the state agency with any available new hire, quarterly wage, and available unemployment insurance information in the NDNH pertaining to the individuals whose records are contained in the state agency input file. The NDNH data elements that OCSE will return to the state agency are as follows:

A. New Hire File

New hire processed date

Employee name and address

Employee date and state of hire

Federal and state employer identification numbers

Department of Defense code

Employer name and address

Transmitter agency code

Transmitter state code

Transmitter state or agency name

B. Quarterly Wage File

Quarterly wage processed date

Employee name

Federal and state employer identification numbers

Department of Defense code

Employer name and address

Employee wage amount

Quarterly wage reporting period

Transmitter agency code

Transmitter state code

Transmitter state or agency name

C. Unemployment Insurance File

Unemployment insurance processed date

Claimant name and address

Claimant benefit amount

Unemployment insurance reporting period

Transmitter state code

Transmitter state or agency name

System(s) of Records

The NDNH data used in this matching program will be disclosed from the following OCSE system of records, as authorized by routine use 8: “OCSE National Directory of New Hires,” System No. 09-80-0381; 87 FR 3553 (January 24, 2022).

[FR Doc. 2022-24771 Filed 11-14-22; 8:45 am]

BILLING CODE 4184-42-P